DEPARTMENT OF TRANSPORTATION

Federal Railroad Administration

Notice of Informational Filing

In accordance with § 236.913 of Title 49 of the Code of Federal Regulations (CFR), notice is hereby given that the Federal Railroad Administration (FRA) has received an informational filing from the Norfolk Southern Railway (NS) to permit field testing of the railroad's processor-based train control system. The informational filing is described below, including the requisite docket number where the informational filing and any related information may be found. The document is also available for public inspection; however, FRA is not accepting public comments.

Norfolk Southern Railway

[Docket Number FRA-2008-0083]

NS has submitted an informational filing to FRA to permit field testing of the railroad's processor-based train control system identified as Optimized Train Control (OTC) Positive Train Control (PTC) System. The informational filing addresses the requirements under 49 CFR 236.913(j)(1).

Specifically, the informational filing contains a description of the NS OTC PTC product and an operational concepts document pursuant to 49 CFR 236.913(j)(1). The NS OTC PTC system is designed to assist train crews in situational awareness, prevent authority limit and over-speed violations, provide open switch protection in non-signaled Track Warrant Control territory, and to prevent equipped trains from entering the limits without authorization of on-track authority granted to employees. NS desires to commence field testing on or after September 1, 2008, or as soon as practicable thereafter, contingent upon FRA's acceptance and approval of their informational filing.

Interested parties are invited to review the informational filing and associated documents at the DOT Docket Management facility during regular business hours (9 a.m.-5 p.m.) at 1200 New Jersey Avenue, SE., Room W12-140, Washington, DC 20590. All documents in the public docket are also available for inspection and copying on the Internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78).

Issued in Washington, DC on September 3, 2008.
Grady C. Cothen, Jr.,
Deputy Associate Administrator for Safety Standards and Program Development.

[FR Doc. E8-20757 Filed 9-5-08; 8:45 am]

BILLING CODE 4910-06-P